NATIONAL AERONAUTICS AND SPACE ADMINISTRATION

[Notice: 23-006]

National Space Council (NSpC) Users' Advisory Group (UAG); Meeting

AGENCY: National Aeronautics and Space Administration (NASA).

ACTION: Notice of meeting.

SUMMARY: In accordance with the Federal Advisory Committee Act (FACA), as amended, NASA announces a meeting of the NSpC UAG. This will be the first meeting of the recently announced UAG membership

DATES: Thursday, February 23, 2023, from 9:00 a.m.-2:00 p.m., Eastern Time. Meeting may adjourn earlier as needed at the discretion of the Chair.

ADDRESSES: JW Marriott Hotel, 1331 Pennsylvania Avenue NW, Washington, DC 20004.

Virtual Access via internet and Phone: Access information links for both virtual video and audio lines will be posted in advance at the following UAG website: https://www.nasa.gov/content/national-space-council-users-advisory-group.

FOR FURTHER INFORMATION CONTACT: Mr. James Joseph Miller, UAG Designated Federal Officer and Executive Secretary, Space Operations Mission Directorate, NASA Headquarters, Washington, DC 20546, (202) 262-0929 or jj.miller@nasa.gov.

SUPPLEMENTARY INFORMATION: This meeting will be open to the public up to the capacity of the meeting room. For security purposes, pre-registration, or door sign-in with identification will be required to attend this event in person. For virtual or telephonic access, specific information will be posted in advance at the website as listed above.

The agenda for the meeting will include the following:

• Opening Remarks and Introductions by UAG Chair, General Lester Lyles (USAF, Ret.), and Deputy Assistant to the President and Executive Secretary of the NSpC, Mr. Chirag Parikh

• Expert “Space Enterprise” Presentations based on UAG Subcommittee Focus Areas

• High-Level Workplan from UAG Subcommittee Chairs:

—Exploration and Discovery

—Economic Development/Industrial Base

—Climate and Societal Benefits

—Data and Emerging Technology

—STEM Education, Diversity & Inclusion and Outreach

—National Security

• Roundtable Discussion

• Next Steps, Action Plan, and Schedule

Summary: In-person attendees will be requested to show identification and sign a register prior to entrance to the proceedings. Advance RSVPs through the UAG website noted above will expedite entry.

For further information about membership and a detailed Agenda, visit the UAG website at: https://www.nasa.gov/content/national-space-council-users-advisory-group.

Patricia Rausch,
Advisory Committee Management Officer, National Aeronautics and Space Administration.

[FR Doc. 2023-02741 Filed 2-8-23; 8:45 am]

BILLING CODE 7510-13-P